DEPARTMENT OF DEFENSE

Department of the Navy

Notice of Fiscal Year 2022 Performance Review Board Membership

AGENCY: Department of the Navy (DoN), Department of Defense (DoD).

ACTION: Notice.

SUMMARY: The Department of the Navy (DON) announces the appointment of members to the DON Senior Executive Service (SES), Senior Level (SL), and Scientific and Professional (ST) Fiscal Year 2022 Performance Review Board (PRB). The purpose of the PRB is to provide fair and impartial review of the annual SES performance appraisal prepared by the senior executive's immediate and second level supervisor; to make recommendations to appointing officials regarding acceptance or modification of the performance rating; and to make recommendations for performance-based bonuses and performance-based pay increases.

FOR FURTHER INFORMATION CONTACT: Danielle Dutton, Director, Executive Management Program Office, Manpower and Reserve Affairs at (703) 697-0640 or danielle.a.dutton.civ@us.navy.mil.

SUPPLEMENTARY INFORMATION: Composition of the specific PRB is provided below:

Ms. Mary Tompa

Mr. Frederick Stefany

Mr. Andrew Haeuptle

Mr. Scott Bray

Ms. Anne Sandel

Mr. Thomas Rudowsky

Ms. Giao Phan

Mr. Kurt Wendelken

Ms. Deline Reardon

Ms. Catherine Kessmeier

Mr. Mark Romano (HLR)

Mr. Timothy Bridges (HLR)

Mr. Robert Hogue (Chair)

(Authority: 5 U.S.C. 4314(c)(4))

Dated: October 27, 2022.
B.F. Roach,
Commander, Judge Advocate General's Corps, U.S. Navy, Federal Register Liaison Officer.

[FR Doc. 2022-23782 Filed 11-1-22; 8:45 am]

BILLING CODE P